DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Technology Letter of Explanation.

OMB Control Number: 0694-0047.

Form Number(s): None.

Type of Request: Regular submission.

Burden Hours: 10,964.

Number of Respondents: 6,313.

Average Hours Per Response: Letter of Assurance, 30 minutes; and Technology. Letter of Explanation, 2 hours.

Needs and Uses: The information contained in the Technology Letter of Explanation, and the Letter of Assurance will assure BIS that no unauthorized technical data will be exported for unauthorized end-uses or to unauthorized destinations. This will also provide assurance of compliance to U.S. national security and foreign policy programs.

Affected Public: Businesses and other for-profit institutions.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285 or via the Internet at David_Rostker@omb.eop.gov.

Dated: November 20, 2007.
Gwellnar Banks,
Management Analyst, Office of the Chief Information Officer.

[FR Doc. E7-22994 Filed 11-26-07; 8:45 am]

BILLING CODE 3510-33-P